DEPARTMENT OF LABOR

Employment and Training Administration

Notice of Determinations Regarding Eligibility To Apply for Worker Adjustment Assistance and Alternative Trade Adjustment Assistance

In accordance with Section 223 of the Trade Act of 1974, as amended (19 U.S.C. 2273) the Department of Labor herein presents summaries of determinations regarding eligibility to apply for trade adjustment assistance for workers (TA-W) number and alternative trade adjustment assistance (ATAA) by (TA-W) number issued during the period of April 30 through May 4, 2007.

In order for an affirmative determination to be made for workers of a primary firm and a certification issued regarding eligibility to apply for worker adjustment assistance, each of the group eligibility requirements of Section 222(a) of the Act must be met.

I. Section (a)(2)(A) all of the following must be satisfied:

A. A significant number or proportion of the workers in such workers' firm, or an appropriate subdivision of the firm, have become totally or partially separated, or are threatened to become totally or partially separated;

B. The sales or production, or both, of such firm or subdivision have decreased absolutely; and

C. Increased imports of articles like or directly competitive with articles produced by such firm or subdivision have contributed importantly to such workers' separation or threat of separation and to the decline in sales or production of such firm or subdivision; or

II. Section (a)(2)(B) both of the following must be satisfied:

A. A significant number or proportion of the workers in such workers' firm, or an appropriate subdivision of the firm, have become totally or partially separated, or are threatened to become totally or partially separated;

B. There has been a shift in production by such workers' firm or subdivision to a foreign country of articles like or directly competitive with articles which are produced by such firm or subdivision; and

C. One of the following must be satisfied:

1. The country to which the workers' firm has shifted production of the articles is a party to a free trade agreement with the United States;

2. The country to which the workers' firm has shifted production of the articles to a beneficiary country under the Andean Trade Preference Act, African Growth and Opportunity Act, or the Caribbean Basin Economic Recovery Act; or

3. There has been or is likely to be an increase in imports of articles that are like or directly competitive with articles which are or were produced by such firm or subdivision.

Also, in order for an affirmative determination to be made for secondarily affected workers of a firm and a certification issued regarding eligibility to apply for worker adjustment assistance, each of the group eligibility requirements of Section 222(b) of the Act must be met.

(1) Significant number or proportion of the workers in the workers' firm or an appropriate subdivision of the firm have become totally or partially separated, or are threatened to become totally or partially separated;

(2) The workers' firm (or subdivision) is a supplier or downstream producer to a firm (or subdivision) that employed a group of workers who received a certification of eligibility to apply for trade adjustment assistance benefits and such supply or production is related to the article that was the basis for such certification; and

(3) Either—

(A) The workers' firm is a supplier and the component parts it supplied for the firm (or subdivision) described in paragraph (2) accounted for at least 20 percent of the production or sales of the workers' firm; or

(B) A loss or business by the workers' firm with the firm (or subdivision) described in paragraph (2) contributed importantly to the workers' separation or threat of separation.

In order for the Division of Trade Adjustment Assistance to issued a certification of eligibility to apply for Alternative Trade Adjustment Assistance (ATAA) for older workers, the group eligibility requirements of Section 246(a)(3)(A)(ii) of the Trade Act must be met.

1. Whether a significant number of workers in the workers' firm are 50 years of age or older.

2. Whether the workers in the workers' firm possess skills that are not easily transferable.

3. The competitive conditions within the workers' industry (i.e., conditions within the industry are adverse).

Affirmative Determinations for Worker Adjustment Assistance

The following certifications have been issued. The date following the company name and location of each determination references the impact date for all workers of such determination.

The following certifications have been issued. The requirements of Section 222(a)(2)(A) (increased imports) of the Trade Act have been met.

TA-W-61,215; Tool Dex, Inc., Warren, MI: March 29, 2006

TA-W-61,247; Anderson Corporation, Bayport Division, Bayport, MN: April 4, 2006

The following certifications have been issued. The requirements of Section 222(a)(2)(B) (shift in production) of the Trade Act have been met.

TA-W-61,320; TK Holdings/Moses Lake Inflator Operations, Airbag Inflator Workers, Moses Lake, WA: April 16, 2006

The following certifications have been issued. The requirements of Section 222(b) (supplier to a firm whose workers are certified eligible to apply for TAA) of the Trade Act have been met.

None.

The following certifications have been issued. The requirements of Section 222(b) (downstream producer for a firm whose workers are certified eligible to apply for TAA based on increased imports from or a shift in production to Mexico or Canada) of the Trade Act have been met.

None.

Affirmative Determinations for Worker Adjustment Assistance and Alternative Trade Adjustment Assistance

The following certifications have been issued. The date following the company name and location of each determination references the impact date for all workers of such determination.

The following certifications have been issued. The requirements of Section 222(a)(2)(A) (increased imports) and Section 246(a)(3)(A)(ii) of the Trade Act have been met.

TA-W-61,249; Cintas Corporation, Digitized Logo Worker Group, Mason, OH: March 4, 2006

TA-W-61,250; Thomasville Furniture Industries, Upholstery Plant #8, Hickory, NC: April 4, 2006

TA-W-61,297; Melcor Corporation, Thermal Division, dba Laird Technologies, Trenton, NJ: April 5, 2006

TA-W-61,300; McKinney Products Co., Scranton, PA: April 12, 2006

TA-W-61,301; Lexington Furniture Industries, Lexington Home Brands Division, Plant 15, Lexington, NC: April 6, 2006

TA-W-61,305; La-Z-Boy Manufacturing, Inc., Lincolnton, NC: April 10, 2006

TA-W-61,310; Global Heating Solutions, Inc., dba Truheat, Inc., dba Truheat SJB, dba Electro Heat, Inc., Allegan, MI: April 10, 2006

TA-W-61,332; Cooper Tire and Rubber Company, Texarkana, AR: April 17, 2006

TA-W-61,335; Mr. Gasket, Inc., On-Site Leased Workers of Express Personnel and Spherion Staffing, Carson City, NV: April 16, 2006

TA-W-60,945; Missbrenner Wet Printing, Inc., Clifton, NJ: February 7, 2006

TA-W-61,017; Catawissa Lumber and Specialty Co., Plant #1, Catawissa, PA: February 15, 2006

TA-W-61,017A; Catawissa Lumber & Specialty Co., Plant #2, Paxinos, PA: February 15, 2006

TA-W-61,096; Portac, Inc., Tacoma Division, Tacoma, WA: March 6, 2006

TA-W-61,130; Bauhaus USA, Inc., A Division of LA-Z-Boy, Inc., Iuka, MS: March 15, 2006

TA-W-61,183; Duro Textiles LLC, Duro Finishing, Plant 2 and Duro Textile Printers Division, Fall River, MA: April 2, 2007

TA-W-61,186; New London Textile, Inc., Newark, DE: March 20, 2006

TA-W-61,194; Triana Industries, Inc., Leased Workers of Automotive Staffing Agency, Madison, AL: March 26, 2006

TA-W-61,200; Neff Perkins Company, Perry, OH: March 9, 2006

TA-W-61,353; Skip's Cutting, Inc., On-Site Leased Workers of Gage Personnel and JFC Temp, Ephrata, PA: April 30, 2006.

The following certifications have been issued. The requirements of Section 222(a)(2)(B) (shift in production) and Section 246(a)(3)(A)(ii) of the Trade Act have been met.

TA-W-60,965; Eaton Aviation Corporation, Aviation and Aerospace Components, Aurora, CO: February 13, 2006

TA-W-61,196; Avx Corporation, Raleigh, NC: March 26, 2006

TA-W-61,257; Marathon Electronic Mfg. Corp, A Subsidiary of Regal—Beloit Corporation, Lima, OH: April 5, 2006

TA-W-61,270; CNH American LLC, Leased Workers From Armstrong's CNH Meridian, FBG Service Corp., Belleville, PA: April 9, 2006

TA-W-61,278; ExxonMobil Chemical Co., Films Division, Leased Workers From Express Personnel, Stratford, CT: April 9, 2006

TA-W-61,282; Amphenol Phoenix Interconnect, A Wholly Owned Subsidiary of Amphenol Corp., Tustin, CA: April 10, 2006

TA-W-61,286; Nevamar LLC, Subsidiary of Panolam Industries Int'l Inc., Tarboro, NC: April 2, 2006

TA-W-61,289; The Siemon Company, Watertown, CT: April 10, 2006

TA-W-61,296; Valeo Engine Cooling, Jamestown, NY: April 11, 2006

TA-W-61,307; Simply Asia Foods, Inc., Union City, CA: April 4, 2006

TA-W-61,321; Starkey Labs, Starkey—East Division, Mt. Laural, NJ: April 16, 2006

TA-W-61,331; FiberTech Group, Inc., A Subsidiary of Polymer Group Incorporated, Rogers, AR: April 17, 2006

TA-W-61,333; Coats American, Inc., Cherokee Plant, Marble, NC: April 16, 2006

TA-W-61,343; Wentworth Corporation, dba Liberty Textiles, Eden, NC: April 19, 2006

TA-W-61,359; Bayer Clothing Group, Inc., MacClenny Products Facility, MacClenny, FL: March 29, 2006

TA-W-61,398; Commercial Vehicle Group, Statesville Operation Division, Statesville, NC: April 27, 2006

TA-W-61,295; Spang and Company, Magnetics Division, East Butler, PA: April 10, 2006

TA-W-61,387; Yamaha Music Manufacturing, Inc., On-Site Leased Workers of Personnel Options, Thomaston, GA: April 11, 2006

The following certifications have been issued. The requirements of Section 222(b) (supplier to a firm whose workers are certified eligible to apply for TAA) and Section 246(a)(3)(A)(ii) of the Trade Act have been met.

TA-W-61,152; Precision Laser, Inc., High Point, NC: March 19, 2006

TA-W-61,399; Wehadkee Yarn Mills, Talladega Division, Talladega, AL: April 27, 2006

TA-W-61,347; Wellman, Inc., Administrative Offices, Fort Mill, SC: April 11, 2006

The following certifications have been issued. The requirements of Section 222(b) (downstream producer for a firm whose workers are certified eligible to apply for TAA based on increased imports from or a shift in production to Mexico or Canada) and Section 246(a)(3)(A)(ii) of the Trade Act have been met.

None.

Negative Determinations for Alternative Trade Adjustment Assistance

In the following cases, it has been determined that the requirements of 246(a)(3)(A)(ii) have not been met for the reasons specified.

The Department has determined that criterion (1) of Section 246 has not been met. Workers at the firm are 50 years of age or older.

TA-W-61,215; Tool Dex, Inc., Warren, MI

TA-W-61,320; TK Holdings/Moses Lake Inflator Operations, Airbag Inflator Workers, Moses Lake, WA

The Department has determined that criterion (2) of Section 246 has not been met. Workers at the firm possess skills that are easily transferable.

TA-W-61,247; Anderson Corporation, Bayport Division, Bayport, MN

The Department has determined that criterion (3) of Section 246 has not been met. Competition conditions within the workers' industry are not adverse.

None.

Negative Determinations for Worker Adjustment Assistance And Alternative Trade Adjustment Assistance

In the following cases, the investigation revealed that the eligibility criteria for worker adjustment assistance have not been met for the reasons specified.

Because the workers of the firm are not eligible to apply for TAA, the workers cannot be certified eligible for ATAA.

The investigation revealed that criteria (a)(2)(A)(I.A.) and (a)(2)(B)(II.A.) (employment decline) have not been met.

TA-W-61,206; The Hershey Company, Hershey Plant, Hershey, PA

TA-W-61,234; Penn Mould Industries, Inc., Washington, PA

The investigation revealed that criteria (a)(2)(A)(I.B.) (Sales or production, or both, did not decline) and (a)(2)(B)(II.B.) (shift in production to a foreign country) have not been met.

None.

The investigation revealed that criteria (a)(2)(A)(I.C.) (increased imports) and (a)(2)(B)(II.B.) (shift in production to a foreign country) have not been met.

TA-W-60,825; Golden Ratio Woodworks, Emigrant, MT

TA-W-60,849; C and D Technologies, Power Electronics Division, Milwaukie, OR

TA-W-60,950; Northern Hardwoods, Hardwood Lumber and Logs Division, South Range, MI

TA-W-60,965A; Eaton Aviation Corporation, Group Support Equipment, Aurora, CO

TA-W-61,146; Watson Laboratories, Inc, Phoenix, AZ

TA-W-61,160; Bruce Plastics, Inc., Pittsburgh, PA

TA-W-61,213; Stark Ceramics, Inc., East Canton, OH

TA-W-61,228; Form Tools, Inc., Jackson, MI

TA-W-61,271; J.H. Baxter and Company, Eugene, OR

The investigation revealed that the predominate cause of worker separations is unrelated to criteria (a)(2)(A)(I.C.) (increased imports) and (a)(2)(B)(II.C) (shift in production to a foreign country under a free trade agreement or a beneficiary country under a preferential trade agreement, or there has been or is likely to be an increase in imports).

None.

The workers' firm does not produce an article as required for certification under Section 222 of the Trade Act of 1974.

TA-W-61,269; Auto Truck Transport Corp., Portland, OR

TA-W-61,298; American Manufacturing International, Inc., Patterson, NJ

TA-W-61,345; Arvato Services, Inc., Melbourne, FL

TA-W-61,384; Collezione Europa, USA, Claremont, NC

TA-W-61,304; Securitas, Working on the Site at Bosch—Sumter Plant, Sumter, SC

TA-W-61,366; Staples, Inc., Information Systems Division, Framingham, MA

TA-W-61,383; Kasle Steel Corporation, Corporate Office, Dearborn, MI

The investigation revealed that criteria of Section 222(b)(2) has not been met. The workers' firm (or subdivision) is not a supplier to or a downstream producer for a firm whose workers were certified eligible to apply for TAA.

None.

I hereby certify that the aforementioned determinations were issued during the period of April 30 through May 4, 2007. Copies of these determinations are available for inspection in Room C-5311, U.S. Department of Labor, 200 Constitution Avenue, NW., Washington, DC 20210 during normal business hours or will be mailed to persons who write to the above address.

Dated: May 10, 2007.
Ralph DiBattista,
Director, Division of Trade Adjustment Assistance.

[FR Doc. E7-9476 Filed 5-16-07; 8:45 am]

BILLING CODE 4510-FN-P